ENVIRONMENTAL PROTECTION AGENCY

[FRL-8708-9]

Clean Water Act Section 303(d): Availability of 30 Modified Total Maximum Daily Loads (TMDLs) in Louisiana

AGENCY: Environmental Protection Agency (EPA).

ACTION: Notice of availability.

SUMMARY: This notice announces the availability for comment of the administrative record files for 30 modified TMDLs and the calculations for these TMDLs prepared by EPA Region 6 for waters listed in the Lower, Middle, and Upper Terrebonne Basins, under section 303(d) of the Clean Water Act (CWA). These TMDLs were completed in response to the court order styled Sierra Club, et al. v. Clifford, et al., No. 96-0527, (E.D. La.).

DATES: Comments must be submitted in writing to EPA on or before September 26, 2008.

ADDRESSES: Comments on the 30 modified TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax (214) 665-7373. The administrative record files for these TMDLs are available for public inspection at this address as well. Documents from the administrative record file may be viewed at http://www.epa.gov/region6/water/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. EPA originally established these TMDLs pursuant to a consent decree entered in this lawsuit. EPA has modified these TMDLs.

EPA Seeks Comments on 30 Modified TMDLs

By this notice EPA is seeking comment on the following 30 modified TMDLs for waters located within the Terrebonne basin:

Subsegment | Waterbody name | Pollutant
120102 | Bayou Poydras | Dissolved Oxygen and Nutrients.
120103 | Bayou Choctaw | Dissolved Oxygen, Nitrogen, Phosphorus, and Nutrients.
120105 | Chamberlin Canal | Dissolved Oxygen, Nitrogen, Phosphorus, and Nutrients.
120106 | Bayou Plaquemine | Dissolved Oxygen and Nutrients.
120107 | Upper Grand River and Lower Flat River—Headwaters to Intracoastal Waterway | Dissolved Oxygen.
120109 | Intracoastal Waterway—in Morgan City to Port Allen Route—Port Allen Locks to Bayou Sorrel Locks | Dissolved Oxygen and Nutrients.
120110 | Bayou Cholpe—Headwaters to Bayou Choctaw | Dissolved Oxygen.
120202 | Bayou Black—Intracoastal Waterway to Houma | Dissolved Oxygen and Nutrients.
120204 | Lake Verret and Grassy Lake | Dissolved Oxygen and Nutrients.
120304 | Intracoastal Waterway—Houma to Larose | Dissolved Oxygen and Nutrients.
120403 | Intracoastal Waterway—Bayou Boeuf | Dissolved Oxygen.
120604 | Bayou Blue—Intracoastal Waterway to boundary between segments 1206 and 1207 | Dissolved Oxygen.
120401 | Bayou Penchant—Bayou Chene to Lake Penchant | Dissolved Oxygen.
120404 | Lake Penchant | Dissolved Oxygen.
120405 | Lake Hatch and Lake Theriot | Dissolved Oxygen and Nutrients.
120406 | Lake de Cade | Dissolved Oxygen and Nutrients.

EPA previously requested the public to provide EPA with any significant data or information that might impact the original 30 TMDLs in Federal Register Notices: Volume 72, Number 206, pages 60666 and 60667 (October 25, 2007); Volume 72, Number 209, pages 61355 and 61356 (October 30, 2007); Volume 73, Number 22, pages 6178 and 6179 (February 1, 2008).

EPA now requests that the public provide any water quality related data and information that may be relevant to the calculations for these 30 modified TMDLs. EPA will review all data and information submitted during the public comment period and revise the modifications to the TMDLs where appropriate. EPA will then forward the modified TMDLs to the Louisiana Department of Environmental Quality (LDEQ). The LDEQ will incorporate the modified TMDLs into its current water quality management plan.

Dated: August 20, 2008.
James R. Brown,
P.G., Acting Director, Water Quality Protection Division, Region 6.

[FR Doc. E8-19863 Filed 8-26-08; 8:45 am]

BILLING CODE 6560-50-P